DEPARTMENT OF COMMERCE

Foreign-Trade Zones Board

[S-143-2014]

Approval of Subzone Status; Spenco Medical Corporation; Waco, Texas

On November 17, 2014, the Executive Secretary of the Foreign-Trade Zones (FTZ) Board docketed an application submitted by the City of Waco, grantee of FTZ 246, requesting subzone status subject to the existing activation limit of FTZ 246, on behalf of Spenco Medical Corporation, in Waco, Texas.

The application was processed in accordance with the FTZ Act and Regulations, including notice in the Federal Register inviting public comment (79 FR 69424, November 21, 2014). The FTZ staff examiner reviewed the application and determined that it meets the criteria for approval.

Pursuant to the authority delegated to the FTZ Board's Executive Secretary (15 CFR Sec. 400.36(f)), the application to establish Subzone 246A is approved, subject to the FTZ Act and the Board's regulations, including Section 400.13, and further subject to FTZ 246's 412-acre activation limit.

Dated: February 23, 2015.
Andrew McGilvray,
Executive Secretary.

[FR Doc. 2015-04393 Filed 3-2-15; 8:45 am]

BILLING CODE 3510-DS-P